DEPARTMENT OF COMMERCE

National Oceanic and Atmospheric Administration

[I.D. 080306A]

Pacific Albacore Tuna Fisheries; Updating Annual Vessel List

AGENCY: National Marine Fisheries Service (NMFS), National Oceanic and Atmospheric Administration (NOAA), Commerce.

ACTION: Notice.

SUMMARY: NMFS revises the methodology to create a vessel list at the beginning of each calendar year of vessels eligible to fish for albacore tuna in Canadian waters. The vessel list reverts to zero vessels on December 31 of each year, unless NMFS receives a notice for a vessel to be added to the list for the upcoming year, with the requisite information. This notice clarifies NMFS' original intention that the vessel list remain valid for a single calendar year. Revising the way the list is created and updating the list every year is intended to facilitate the United States' obligation to annually provide Canada a current list of U. S. vessels that are likely to fish albacore off the coast of Canada.

ADDRESSES: Submit requests to be added to the vessel list of those vessels desiring to fish in Canadian waters to:

• E-mail: albacore.fish@noaa.gov.

• Mail: Mark Helvey, Assistant Regional Administrator, Southwest Region, NMFS, 501 West Ocean Blvd., Suite 4200, Long Beach, CA 90802-4213.

• Phone: (562)980-4024.

• Fax: (562) 980-4047.

FOR FURTHER INFORMATION CONTACT: Mark Helvey, Southwest Region, NMFS, (562) 980-4040.

SUPPLEMENTARY INFORMATION: The 1981 Treaty Between the Government of the United States of America and the Government of Canada on Pacific Coast Albacore Tuna Vessels and Port Privileges (Treaty), as amended in 2002, establishes a number of obligations for both countries to control reciprocal fishing in waters of one country by vessels of the other country. One obligation is that each country is required to annually provide to the other country a list of its fishing vessels which propose to fish for Pacific albacore tuna off the coast of the other county for each fishing season. As described in the 2004 final rule in 69 FR 31531, published on June 4, 2004, and at 50 CFR 300.172, the list is to include vessel and owner name, address, and phone number; USCG documentation number (or state registration if not documented); vessel operator (if different from the owner) and his or her address with phone number. Each U.S. vessel must be on the list for at least 7 days prior to engaging in fishing under the Treaty. This is intended to ensure that both countries have equal information as to eligible vessels, and U.S. and Canadian enforcement offices can obtain lists of eligible vessels that are up to date to facilitate enforcement. Vessel owners who wish their vessel to remain on or be added to the vessel list must contact NMFS at the ADDRESSES section listed above and provide the required information. NMFS will notify fishermen by a confirmation letter or email that they are on the vessel list.

This revision to procedures is necessary for NMFS to reconstruct the 2006 vessel list. Previous to the 2006 fishing season, NMFS did not require owners of any albacore fishing vessels that wanted their vessels to be on the list of U. S. vessels eligible to fish for albacore tuna in Canadian waters under the Treaty to contact NMFS. Instead, NMFS relied on a lengthy list created from information provided by industry that was not readily verifiable nor did it indicate to NMFS whether each vessel owner actually wished to be eligible to fish for albacore tuna in Canada for any given year. The result was that NMFS did not have an effective and efficient way of annually providing the Canadian government an updated vessel list of vessels owners who intended to fish for albacore tuna in Canada for a particular fishing season.

NMFS is undertaking rulemaking to clarify the requirements of 50 CFR 300.172.

Authority: 16 U.S.C. 1801 et seq.

Dated: August 11, 2006.
James P. Burgess,
Acting Director, Office of Sustainable Fisheries, National Marine Fisheries Service.

[FR Doc. E6-13693 Filed 8-17-06; 8:45 am]

BILLING CODE 3510-22-S